DEPARTMENT OF JUSTICE

Notice of Lodging of Proposed Consent Decree Under the Clean Air Act

On August 8, 2023, the Department of Justice lodged a proposed consent decree with the United States District Court for the District of New Mexico in the lawsuit entitled United States of America and New Mexico Environment Department v. Mewbourne Oil Company, Civil Action No. 23-cv-00654.

In this action, the United States, on behalf of the U.S. Environmental Protection Agency, and the New Mexico Environment Department filed a complaint alleging that Mewbourne Oil Company (“Defendant”) violated the Clean Air Act, the New Mexico Air Quality Control Act, their implementing regulations, and the Texas State Implementation Plan at 104 of Defendant's oil and natural gas production facilities in New Mexico and Texas by failing to comply with requirements of the federal New Source Performance Standards set forth at 40 CFR part 60, subpart OOOO and OOOOa; failing to submit a Notice of Intent and to register for the NMED's Air Quality Bureau General Construction Permit for Oil and Gas Facilities (“GCP”) as required by New Mexico regulations; failing to apply for a Title V Operating Permit; and failing to operate in accordance with provisions of the GCP and the Texas Commission on Environmental Quality Permit by Rule, as applicable. The complaint seeks an Order enjoining Defendant from further violating applicable requirements and requiring Defendant to remedy, mitigate, and offset the harm to public health and the environment caused by the violations and to pay a civil penalty.

Under the proposed settlement, Defendant agrees to pay a civil penalty of $5,500,000 and to spend at least $1,000,000 on a project to offset excess emissions resulting from the violations. In addition, the settlement requires the Defendant to ensure ongoing compliance with all applicable regulatory requirements at 422 of its oil and natural gas production facilities in New Mexico and Texas. Specifically, the settlement requires the Defendant to undertake a field survey to identify and remedy any compromised equipment at all 422 facilities and, at 206 of these facilities, Defendant is further required to undertake a design analysis to ensure adequate design and sizing of the vapor control system, install and operate extensive monitoring systems, implement a robust inspection and maintenance program, and hire an independent third party to verify compliance.

The publication of this notice opens a period for public comment on the proposed consent decree. Comments should be addressed to the Assistant Attorney General, Environment and Natural Resources Division, and should refer to United States and New Mexico Environment Department v. Mewbourne Oil Company, D.J. Ref. No. 90-5-2-1-12294. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed consent decree may be examined and downloaded at this Justice Department website: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $36.00 (25 cents per page reproduction cost) payable to the United States Treasury.

Thomas Carroll,
Assistant Section Chief, Environmental Enforcement Section, Environment and Natural Resources Division.

[FR Doc. 2023-17312 Filed 8-11-23; 8:45 am]

BILLING CODE 4410-15-P